LEGAL SERVICES CORPORATION

Notice of Intent To Award—Grant Awards for the Provision of Civil Legal Services to Eligible Low-Income Clients Beginning January 1, 2003

AGENCY: Legal Services Corporation.

ACTION: Announcement of intention to make FY 2003 Competitive Grant Awards.

SUMMARY: The Legal Services Corporation (LSC) hereby announces its intention to award grants and contracts to provide economical and effective delivery of high quality civil legal services to eligible low-income clients, beginning January 1, 2003.

DATES: All comments and recommendations must be received on or before the close of business on November 15, 2002.

ADDRESSES: Legal Services Corporation—Competitive Grants, Legal Services Corporation, 750 First Street NE., 10th Floor, Washington, DC 20002-4250.

FOR FURTHER INFORMATION CONTACT: Reginald Haley, Office of Program Performance, (202) 336-8827.

SUPPLEMENTARY INFORMATION: Pursuant to LSC's announcement of funding availability on April 22, 2002 (67 FR 19596), June 24, 2002 (67 FR 42588), and Grant Renewal applications due on August 12, 2002, LSC will award funds to one or more of the following organizations to provide civil legal services in the indicated service areas. Funding amounts shown are based on the 2000 census data as discussed in LSC Program Letter 02-8. Amounts are subject to change.

State & service area | Applicant name | Anticipated FY 2003 award
Alabama:
AL-1 | Legal Services Corp of Alabama, Inc | $4,385,466.
AL-2 | Legal Services of North-Central Alabama | 556,985.
AL-3 | Legal Services of Metro Birmingham | 871,136.
MAL | Texas Rural Legal Aid, Inc | 27,150.
Alaska:
AK-1 | Alaska Legal Services Corporation | 672,721.
NAK-1 | Alaska Legal Services Corporation | 489,766.
Arkansas:
AR-6 | Legal Aid of Arkansas, Inc | 1,356,494.
AR-7 | Center for Arkansas Legal Services | 2,029,575.
MAR | Texas Rural Legal Aid, Inc | 59,127.
Arizona:
AZ-2 | DNA-Peoples Legal Services, Inc | 479,861.
AZ-3 | Community Legal Services, Inc | 3,500,408.
AZ-5 | Southern Arizona Legal Aid, Inc | 1,708,028.
MAZ, | Community Legal Services, Inc | 157,226.
NAZ-5 | DNA-Peoples Legal Services, Inc | 2,363,143.
NAZ-6 | Southern Arizona Legal Aid, Inc | 577,248.
NM-1 | DNA-Peoples Legal Services, Inc | 196,533.
NNM-2 | DNA-Peoples Legal Services, Inc | 20,575.
California:
CA-1 | California Indian Legal Services, Inc | 30,446.
CA-2 | Greater Bakersfield Legal Assist | 834,649.
CA-12 | Inland Counties Legal Services, Inc | 3,697,803.
CA-14 | Legal Aid Society of San Diego, Inc | 2,620,612.
CA-19 | Legal Aid Society of Orange County, Inc | 3,639,546.
CA-26 | Central California Legal Services | 2,634,576.
CA-27 | Legal Services of Northern CA, Inc | 3,256,152.
CA-28 | Bay Area Legal Aid | 3,870,775.
CA-29 | Legal Aid Foundation of Los Angeles | 7,298,912.
CA-30 | Neigh. Legal Services of Los Angeles County | 4,271,630.
CA-31 | California Rural Legal Assist. Inc | 4,289,877.
MCA | California Rural Legal Assist. Inc | 2,929,593.
NCA-1 | California Indian Legal Services, Inc | 800,093.
Colorado:
CO-6 | Colorado Legal Services | 3,122,528.
MCO | Colorado Legal Services | 131,700.
NCO-1 | Colorado Legal Services | 86,971.
Connecticut:
CT-1 | Statewide Legal Services of Connecticut, Inc | 2,154,255.
NCT-1 | Pine Tree Legal Assistance, Inc | 14,178.
Delaware: DE-1 | Legal Services Corporation of Delaware, Inc | 558,441.
District of Columbia: DC-1 | Neighborhood Legal Services Program of DC | 916,149.
Florida:
FL-1 | Central Florida Legal Services, Inc | 1,178,134.
FL-2 | LA Service of Broward County | 1,455,991.
FL-3 | Florida Rural Legal Services, Inc | 2,672,193.
FL-4 | Jacksonville Area Legal Aid | 855,173.
FL-5 | Legal Services of Greater Miami Inc | 3,194,314.
FL-6 | Legal Services of North Florida, Inc | 899,650.
FL-7 | Greater Orlando Area Legal Services, Inc | 1,149,026.
FL-8 | Bay Area Legal Services, Inc | 1,254,731.
FL-9 | Withlacoochee Area Legal Services, Inc | 522,280.
FL-10 | Three Rivers Legal Services, Inc | 688,233.
FL-11 | Northwest Florida Legal Services, Inc | 420,098.
FL-12 | Gulfcoast Legal Services Inc | 1,112,012.
MFL | Florida Rural Legal Services, Inc | 935,141.
Georgia:
GA-1 | Atlanta Legal Aid Society, Inc | 2,322,525.
GA-2 | Georgia Legal Services Program | 5,951,253.
MGA | Georgia Legal Services Program | 375,613.
Guam: GU-1 | Guam Legal Services Corporation | 291,093.
Hawaii:
HI-1 | Legal Aid Society of Hawaii | 1,176,963.
MHI | Legal Aid Society of Hawaii | 81,709.
NHI-1 | Native Hawaiian Legal Corporation | 207,446.
Idaho:
ID-1 | Idaho Legal Aid Services, Inc | 1,062,281.
MID | Idaho Legal Aid Services, Inc | 182,109.
NID-1 | Idaho Legal Aid Services, Inc | 58,835.
Iowa:
IA-3 | Legal Services Corporation of Iowa | 2,131,573.
MIA | Legal Services Corporation of Iowa | 27,091.
Illinois:
IL-3 | Land of Lincoln Legal Assist Foundation | 2,249,250.
IL-6 | Legal Assistance of Metropolitan Chicago | 5,850,995.
IL-7 | Prairie State Legal Services, Inc | 2,501,178.
MIL | Legal Assistance of Metropolitan Chicago | 207,945.
Indiana:
IN-5 | Indiana Legal Services, Inc | 4,586,149.
MIN | Indiana Legal Services, Inc | 94,861.
Kansas:
KS-1 | Kansas Legal Services, Inc | 2,147,620.
MKS | Kansas Legal Services, Inc | 9,546.
Kentucky:
KY-2 | Legal Aid Society, Inc | 1,066,857.
KY-5 | Appalachian Res. and Defense Fund of Kentucky | 1,841,275.
KY-9 | Kentucky Legal Aid | 1,105,963.
KY-10 | Northern Kentucky Legal Aid Society, Inc | 1,149,244.
MKY | Texas Rural Legal Aid, Inc | 33,157.
Louisiana:
LA-1 | Capital Area Legal Services Corporation | 1,282,433.
LA-10 | Acadiana Legal Service Corp | 1,816,794.
LA-11 | Legal Services of North Louisiana, Inc | 1,704,664.
LA-12 | Southeast Louisiana Legal Services Corporation | 2,296,346.
MLA | Texas Rural Legal Aid, Inc | 20,733.
Maine:
ME-1 | Pine Tree Legal Assistance, Inc | 1,068,924.
MMX-1 | Pine Tree Legal Assistance, Inc | 116,346.
NME-1 | Pine Tree Legal Assistance, Inc | 58,371.
Maryland:
MD-1 | Legal Aid Bureau, Inc | 3,581,699.
MDE | Legal Aid Bureau, Inc | 26,397.
MMD | Legal Aid Bureau, Inc | 88,553.
Massachusetts:
MA-1 | Volunteer Lawyers Project Boston Bar | 1,646,181.
MA-2 | South Middlesex Legal Services, Inc | 195,403.
MA-3 | Legal Svc for Cape Cod & Islands | 230,476.
MA-4 | Merrimack Valley Legal Services, Inc | 750,740.
MA-5 | New Center for Legal Advocacy | 594,928.
MA-10 | Massachusetts Justice Project | 1,364,158.
Micronesia: MP-1 | Micronesian Legal Services, Inc | 1,491,917.
Minnesota:
MN-1 | Legal Aid Service of Northeastern Minnesota | 383,569.
MN-2 | Judicare of Anoka County, Inc | 98,609.
MN-3 | Central Minnesota Legal Services, Inc | 1,096,576.
MN-4 | Legal Services of Northwest Minnesota Corp. | 345,727.
MN-5 | Southern Minnesota Regional Legal Services, Inc | 1,109,260.
MMN | Southern Minnesota Regional Legal Services, Inc | 149,571.
NMN-1 | Anishinabe Legal Services, Inc | 216,423.
Mississippi:
MS-2 | North MS Rural Legal Services, Inc | 1,898,001.
MS-3 | South MS Legal Services Corp | 525,945.
MS-7 | Central SW MS Legal Services Corp | 1,231,338.
MS-8 | SE Mississippi Legal Services Corp | 887,903.
MMS | Texas Rural Legal Aid, Inc | 42,402.
NMS-1 | SE Mississippi Legal Services Corp | 75,279.
Missouri:
MO-3 | Legal Aid of Western Missouri | 1,608,607.
MO-4 | Legal Services of Eastern Missouri, Inc | 1,774,785.
MO-5 | Mid-Missouri Legal Services Corporation | 353,692.
MO-7 | Legal Services of Southern Missouri | 1,532,889.
MMO | Legal Aid of Western Missouri | 67,042.
Montana:
MT-1 | Montana Legal Services Assoc | 1,025,894.
MMT | Montana Legal Services Assoc | 48,008.
NMT-1 | Montana Legal Services Assoc | 144,197.
Nebraska:
NE-4 | Nebraska Legal Services | 1,315,096.
MNE | Nebraska Legal Services | 34,186.
NNE-1 | Nebraska Legal Services | 29,935.
Nevada:
NV-1 | Nevada Legal Services, Inc | 1,717,198.
MNV | Nevada Legal Services, Inc | 3,698.
NNV-1 | Nevada Legal Services, Inc | 120,422.
New Hampshire: NH-1 | Legal Advice & Referral Center, Inc | 647,362.
New Jersey:
NJ-8 | Essex-Newark Legal Services Project, Inc | 982,438.
NJ-12 | Ocean-Monmouth Legal Services, Inc | 599,153.
NJ-15 | Warren County Legal Services, Inc | 353,207.
NJ-16 | Camden Regional Legal Services, Inc | 1,208,321.
NJ-17 | Legal Aid Society of Mercer County | 983,157.
MNJ | Camden Regional Legal Services, Inc | 126,002.
New Mexico:
NM-5 | Southern New Mexico Legal Services, Inc | 2,475,208.
NNM-4 | Southern New Mexico Legal Services, Inc | 420,781.
MNM | Southern New Mexico Legal Services, Inc | 80,328.
New York:
NY-1 | Legal Aid Society of Northeastern New York | 767,490.
NY-3 | Legal Aid for Broome and Chenango | 262,370.
NY-4 | Neighborhood Legal Services, Inc | 928,381.
NY-6 | Chemung County Legal Services | 268,176.
NY-7 | Nassau/Suffolk Law Services | 1,254,287.
NY-8 | Legal Aid Society of Rockland County, Inc | 762,980.
NY-9 | Legal Services for New York City | 13,789,897.
NY-10 | Niagara County Legal Aid Society, Inc | 188,668.
NY-13 | Legal Services of Central NY, Inc | 826,165.
NY-14 | Legal Aid Society of Mid-New York, Inc | 635,263.
NY-15 | Westchester/Putnam Legal Services | 850,521.
NY-16 | North Country Legal Services, Inc | 316,544.
NY-18 | Monroe Co Legal Assistance | 984,990.
NY-19 | Southern Tier Legal Services | 409,071.
MNY | Legal Aid Society of Mid-New York, Inc | 279,923
North Carolina:
NC-5 | Legal Aid of North Carolina | 7,491,194.
MNC | Legal Aid of North Carolina | 529,643.
NNC-1 | Legal Aid of North Carolina | 197,645.
North Dakota:
ND-3 | Legal Assistance of North Dakota, Inc | 532,078.
MND | Southern Minnesota Regional Legal Services, Inc | 82,512.
NND-3 | Legal Assistance of North Dakota, Inc | 243,946.
Ohio:
OH-5 | The Legal Aid Society of Columbus | 1,154,130.
OH-17 | Ohio State Legal Services | 1,525,944.
OH-18 | Legal Aid Society of Greater Cincinnati | 1,237,679.
OH-19 | Lgl. Assist. of West Cent. OH Regional Entity | 1,226,393.
OH-20 | Community Legal Aid Services, Inc | 1,657,803.
OH-21 | The Legal Aid Society of Cleveland | 1,920,641.
OH-22 | Legal Services of Northwest Ohio, Inc | 977,083.
MOH | Legal Services of Northwest Ohio, Inc | 95,154.
Oklahoma:
OK-3 | Legal Aid Services of Oklahoma | 4,058,422.
MOK | Legal Aid Services of Oklahoma | 51,572.
NOK-1 | Oklahoma Indian Legal Services, Inc | 741,501.
Oregon:
OR-2 | Lane County Legal Aid Service, Inc | 317,280.
OR-4 | Marion-Polk Legal Aid Service, Inc | 307,667.
OR-5 | Legal Aid Services of Oregon | 2,090,392.
MOR | Legal Aid Services of Oregon | 537,114.
NOR-1 | Legal Aid Services of Oregon | 167,176.
Pennsylvania:
PA-1 | Philadelphia Legal Assistance | 2,775,546.
PA-5 | Laurel Legal Services, Inc | 692,006.
PA-8 | Neighborhood Legal Services Assoc | 1,506,801.
PA-11 | Southwestern Pennsylvania Legal Aid Society | 503,062.
PA-23 | LA of Southeastern Pennsylvania | 1,017,327.
PA-24 | North Penn Legal Services, Inc | 1,625,583.
PA-25 | MidPenn Legal Services, Inc | 1,989,072.
PA-26 | Northwestern Legal Services | 657,653.
MPA | Philadelphia Legal Assistance | 144,049.
Puerto Rico:
PR-1 | Puerto Rico Legal Services, Inc | 14,686,125.
PR-2 | Community Law Office, Inc | 310,353.
MPR | Puerto Rico Legal Services, Inc | 219,851.
Rhode Island: RI-1 | Rhode Island Legal Services, Inc | 1,006,618.
South Carolina:
SC-8 | The SC Centers for Equal Justice | 4,404,793.
MSC | The SC Centers for Equal Justice | 179,038.
South Dakota:
SD-2 | East River Legal Services | 365,907.
SD-4 | Dakota Plains Legal Services, Inc | 433,384.
MSD | Dakota Plains Legal Services, Inc | 3,071.
NSD-1 | Dakota Plains Legal Services, Inc | 845,567.
Tennessee:
TN-4 | Memphis Area Legal Services | 1,287,285.
TN-7 | West Tennessee Legal Services, Inc | 600,676.
TN-9 | LA of East Tennessee | 1,964,918.
TN-10 | LAS of Middle TN and the Cumberlands | 2,340,865.
MTN | Texas Rural Legal Aid, Inc | 54,383.
Texas:
TX-13 | Lone Star Legal Aid | 8,677,335.
TX-14 | West Texas Legal Services | 6,844,410.
TX-15 | Texas Rural Legal Aid, Inc | 9,327,617.
MTX | Texas Rural Legal Aid, Inc | 1,234,600.
NTX-1 | Texas Rural Legal Aid, Inc | 28,343.
Utah:
UT-1 | Utah Legal Services, Inc | 1,664,061.
MUT | Utah Legal Services, Inc | 62,214.
NUT-1 | Utah Legal Services, Inc | 74,504.
Vermont: VT-1 | Legal Services Law Line of Vermont, Inc | 457,196.
Virginia:
VA-15 | Southwest Virginia Legal Aid Society, Inc | 745,846.
VA-16 | Legal Services of Eastern Virginia, Inc | 1,283,428.
VA-17 | Virginia Legal Aid Society, Inc | 773,673.
VA-18 | Central Virginia Legal Aid Society, Inc | 910,259.
VA-19 | Blue Ridge Legal Services, Inc | 641,564.
VA-20 | Potomac Legal Aid Society | 994,268.
MVA | Central Virginia Legal Aid Society, Inc | 144,852.
Virgin Islands: VI-1 | Legal Services of the Virgin Islands, Inc | 292,256.
Washington:
WA-1 | Northwest Justice Project | 4,385,249.
MWA | Northwest Justice Project | 738,240.
NWA-1 | Northwest Justice Project | 257,978.
Wisconsin:
WI-2 | Wisconsin Judicare, Inc | 801,802.
WI-5 | Legal Action of Wisconsin, Inc | 2,906,903.
MWI | Legal Action of Wisconsin, Inc | 69,159.
NWI-1 | Wisconsin Judicare, Inc | 140,479.
West Virginia:
WV-5 | Legal Aid of West Virginia, Inc | 2,613,517.
MWV | Legal Aid of West Virginia, Inc | 28,622.
Wyoming:
WY-4 | Wyoming Legal Services | 447,189.
MWY | Wyoming Legal Services | 11,111.
NWY-1 | Wyoming Legal Services | 156,492.

These grants and contracts will be awarded under the authority conferred on LSC by the Legal Services Corporation Act, as amended (42 U.S.C. 2996e(a)(1)). Awards will be made so that each service area is served, although none of the listed organizations are guaranteed an award or contract. This public notice is issued pursuant to the LSC Act (42 U.S.C. 2996f(f)), with a request for comments and recommendations concerning the potential grantees within a period of thirty (30) days from the date of publication of this notice. Grants will become effective and grant funds will be distributed on or about January 1, 2003.

Dated: October 9, 2002.
Michael A. Genz,
Director, Office of Program Performance, Legal Services Corporation.

[FR Doc. 02-26222 Filed 10-15-02; 8:45 am]

BILLING CODE 7050-01-P